DEPARTMENT OF THE INTERIOR

Bureau of Land Management

[NV-910-06-1220-PA]

Notice of Availability of the Sheep Complex, Big Springs and Owyhee Grazing Allotments Sensitive Bird Species Final Environmental Impact Statement and Proposed Grazing Decision, Elko County, NV

AGENCY: Bureau of Land Management, Interior.

ACTION: Notice of availability of the Sheep Complex, Big Springs and Owyhee Grazing Allotments Sensitive Bird Species Final Environmental Impact Statement (EIS).

SUMMARY: In accordance with section 102(2)(c) of the National Environmental Policy Act of 1969 and regulations at 40 CFR parts 1500-1508, the Bureau of Land Management (BLM), Elko Field Office, has prepared a Final EIS on the effects of three multiple use decisions on sensitive avian species in Elko County, Nevada.

DATES: In accordance with 43 CFR 4160.2, any applicant, permittee, lessee or other interested public may protest the proposed grazing decision (s), attached to the Final EIS, in person or in writing to the BLM Elko Field Office, Helen Hankins, Field Manager, within 15 days after receipt of the document. Instructions for filing of protests will be mailed with the proposed decision. In accordance with 40 CFR 1506.10, a final decision will be issued via a Record of Decision following consideration of any protests received. The Record of Decision will be issued no earlier than 30 days after the Environmental Protection Agency has published their notice of filing of the Final EIS in the Federal Register.

ADDRESSES: Protests must be addressed to the BLM Elko Field Office, Helen Hankins, Field Manager, 3900 East Idaho Street, Elko, Nevada 89801.

FOR FURTHER INFORMATION CONTACT: Lorrie West or Bryan Fuell EIS Team Co-Leads, at the Elko Field Office, 3900 E. Idaho Street, Elko, NV 89801. Telephone: (775) 753-0200. E-mail: lwest@nv.blm.gov or bfuell@nv.blm.gov.

SUPPLEMENTARY INFORMATION: The BLM prepared this EIS to comply with a minute order issued by the Honorable Howard D. McKibben, U.S. District Judge, District of Nevada, on August 18, 2004 (CV-N-03-197-HDM(VPC). The order followed a hearing on a complaint against three final multiple use decisions (Western Watersheds Project and Committee for the High Desert vs. Clinton R. Oke, Assistant Field Manager, Elko Field Office, et al.). The final decisions, which were left intact by the judge, are for the Sheep Allotment Complex, Big Springs Allotment and Owyhee Allotment. The Sheep Allotment Complex and Big Springs grazing allotments are located in the southeastern portion of Elko County, NV, and the Owyhee Allotment is in the northwest portion of Elko County.

The order was to prepare the EIS with respect to burrowing owls, other BLM sensitive raptor species, and sage-grouse on the Sheep Complex and the Owyhee Allotment, and sage-grouse on the Big Springs Allotment. To the extent applicable, the EIS was to analyze the impacts of livestock grazing proposed by the multiple use decisions and alternatives to these sensitive bird species and considering springs, seeps, riparian areas and upland habitat. A range of alternatives (including the no-action alternative) was developed to address the issues outlined in the court order.

A Notice of Intent to prepare the EIS was published in the Federal Register on December 17, 2004, and it initiated a 30-day public scoping period. A Memorandum of Understanding (MOU) between the Nevada Department of Wildlife (NDOW) and the BLM Elko Field Office was signed establishing Cooperating Agency status for NDOW. A public scoping meeting was held January 6, 2005. A project briefing was given to the Elko County Public Land Use Advisory Commission on February 4, 2005 and to the Nevada Society of Range Management on January 25, 2005. The Draft EIS was filed with EPA and their Federal Register Notice was published on December 9, 2005. A public open house to discuss the Draft EIS was held on January 11, 2006, and the public comment period closed on January 24, 2006.

Comments on the Draft EIS are included in the Final EIS, and resulted in the addition of mitigation measures and additional analyses to address concerns expressed with the Proposed Action alternative, which is to implement the Final Multiple Use Decisions.

Copies of the Final EIS have been sent to affected Federal, State and local Government agencies, Tribal governments, and to interested parties. Copies of the Final EIS are available for public inspection at the BLM Elko Field Office, 3900 East Idaho Street, Elko, NV. Interested persons may also review the Final EIS on the Internet at http://www.blm.gov/nhp/spotlight/state_info/planning.htm.

Helen M. Hankins,
Field Manager, Elko Field Office, Bureau of Land Management.

[FR Doc. 06-5006 Filed 5-30-06; 8:45 am]

BILLING CODE 4310-HC-P